DEPARTMENT OF ENERGY

Federal Energy Regulatory Commission

[Docket No. OR18-15-000]

Andeavor Field Services, LLC v. Mid-America Pipeline Company, LLC, Enterprise Products Operating LLC; Notice of Complaint

Take notice that on February 27, 2018, pursuant to Rule 206 of the Rules of Practice and Procedure of the Federal Energy Regulatory Commission (Commission),¹ section 343.2 of the Procedural Rules Applicable to Oil Pipeline Proceedings,² and sections 1(4), 1(6), 2, 3(1), 6(1), 6(3), 6(7), 13(1), 15(1) and 15(13) of the Interstate Commerce Act,³ Andeavor Field Services, LLC (Andeavor Field Services or Complainant) filed a formal complaint against Mid-America Pipeline Company, LLC (MAPL) and Enterprise Products Operating LLC, (Enterprise) (jointly, Respondents) alleging that, MAPL's interpretation of a Term Service Agreement violates Commission policy and that MAPL unlawfully seized Complainant's line fill, all as more fully explained in the complaint.

¹ 18 CFR 385.206 (2017).

² 18 CFR 343.2.

³ 49 App. U.S.C. 1(4), 1(6), 2, 3(1), 6(1), 6(3), 6(7), 13(1), 15(1) and 15(13) (1988).

The Complainant states that a copy of the complaint has been served on the Respondents.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for electronic review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on March 29, 2018.

Dated: February 28, 2018.
Kimberly D. Bose,
Secretary.

[FR Doc. 2018-04588 Filed 3-6-18; 8:45 am]

BILLING CODE 6717-01-P